DEPARTMENT OF JUSTICE

Antitrust Division

Notice Pursuant to the National Cooperative Research and Production Act of 1993—Petroleum Environmental Research Forum (“PERF”) Project No. 98-04

Notice is hereby given that, on August 8, 2000, pursuant to section 6(a) of the National Cooperative Research and Production Act of 1993, 15 U.S.C. 4301 et seq. (“the Act”), Petroleum Environmental Research Forum (“PERF”) Project No. 98-04, titled “Understanding, Predicting and Treating Water Soluble Organic Contaminants in Produced Water Discharges”, has filed written notifications simultaneously with the Attorney General and the Federal Trade Commission disclosing a change in its membership status. The notifications were filed for the purpose of extending the Act's provisions limiting the recovery of antitrust plaintiffs to actual damages under specified circumstances. Specifically, Marathon Oil Company, Littleton, CO has been added as a party to this venture.

No other changes have been made in either the membership or planned activity of the group research project. Membership in this group research project remains open, and PERF No. 98-04 intends to file additional written notification disclosing all changes in membership.

On February 4, 2000, PERF 98-04 filed its original notification pursuant to Section 6(a) of the Act. The Department of Justice published a notice in the Federal Register pursuant to section 6(b) of the Act on June 21, 2000 (65 FR 38597).

Constance K. Robinson,
Director of Operations, Antitrust Division.

[FR Doc. 00-23415 Filed 9-12-00; 8:45 am]

BILLING CODE 4410-11-M